DEPARTMENT OF HEALTH AND HUMAN SERVICES

Health Resources and Services Administration

Agency Information Collection Activities: Submission to OMB for Review and Approval; Public Comment Request; The Maternal, Infant, and Early Childhood Home Visiting Program Quarterly Data Collection, OMB No. 0906-0016—Revision

AGENCY: Health Resources and Services Administration (HRSA), Department of Health and Human Services.

ACTION: Notice.

SUMMARY: In compliance with the Paperwork Reduction Act of 1995, HRSA has submitted an Information Collection Request (ICR) to the Office of Management and Budget (OMB) for review and approval. A 60-day Federal Register Notice was published in the Federal Register on February 21, 2018. There were 24 public comments. Comments submitted during the first public review of this ICR will be provided to OMB. OMB will accept further comments from the public during the review and approval period.

DATES: Comments on this ICR should be received no later than January 17, 2019.

ADDRESSES: Submit your comments, including the ICR Title, to the desk officer for HRSA, either by email to OIRA_submission@omb.eop.gov or by fax to 202-395-5806.

FOR FURTHER INFORMATION CONTACT: To request a copy of the clearance requests submitted to OMB for review, email Lisa Wright-Solomon, the HRSA Information Collection Clearance Officer at paperwork@hrsa.gov or call (301) 443-1984.

SUPPLEMENTARY INFORMATION:

Information Collection Request Title: The Maternal, Infant, and Early Childhood Home Visiting Program Quarterly Data Collection, OMB Number: 0906-0016—Revision.

Abstract: This clearance request is for continued approval of the Maternal, Infant, and Early Childhood Home Visiting (MIECHV) Program Quarterly Data Collection. The MIECHV Program, administered by HRSA in partnership with the Administration for Children and Families (ACF), supports voluntary, evidence-based home visiting services during pregnancy and to parents with young children up to kindergarten entry. States, certain non-profit organizations, and Tribal entities are eligible to receive funding from the MIECHV Program and have the flexibility to tailor the program to serve the specific needs of their communities. After taking into consideration public comments in response to the 60-day notice published in the Federal Register on February 21, 2018 (83 FR 7481), HRSA is proposing revisions to the data collection forms for the MIECHV Program by making the following changes:

• Form 4, Due date: The due date will be revised from 60 days to 30 days after the end of each reporting period.

• Form 4, Section A: All tables will be renumbered.

• Form 4, Table A.2: Columns will be revised to reflect Local Implementing Agencies (LIAs) served, LIA addresses, counties served, zip codes served, and evidence-based home visiting models implemented.

• Form 4, Table A.4.1: Columns will be combined to reflect number of full-time equivalents (FTEs) for home visitors, supervisors, and other staff.

• Form 4, Table A.4.2: Table will be deleted.

• Form 4, Section B: Section will be updated to reflect current benchmark constructs.

• Form 4, Definitions of Key Terms: Update definitions for all tables. HRSA is requesting approval of this revised information collection request through March 31, 2022.

Need and Proposed Use of the Information: HRSA uses quarterly performance information to demonstrate program accountability and continuously monitor and provide oversight to MIECHV Program awardees. The information is also used to provide quality improvement guidance and technical assistance to awardees and help inform the development of early childhood systems at the national, state, and local level. HRSA is seeking to revise place-based services and staffing indicators for home visiting programs. In addition, on a quarterly basis HRSA will collect a set of standardized performance and outcome indicators that correspond with the benchmark areas identified in statute for awardees who fail to demonstrate improvement through the required 3-year assessment of improvement.

Likely Respondents: MIECHV Program awardees (n=56).

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below:

¹ HRSA currently estimates approximately 10 awardees may need to report benchmark performance data on a quarterly basis based on the statutorily-required assessment of improvement.

² The 10 responses for Section B are a sub-set of 56 total awardees funded through the MIECHV Program.

Total Estimated Annualized Burden Hours
Form name | Number of respondents | Number of responses per respondent | Total responses | Average burden per response (in hours) | Total burden hours
Form 4: Section A—Quarterly Performance Report—State/Territory Awardees | 56 | 4 | 224 | 24 | 5,376
Form 4: Section B—Quarterly Benchmark Performance Measures | ¹ 10 | 4 | 40 | 200 | 8,000
Total | ² 56 |  | 264 |  | 13,376

Amy P. McNulty,
Acting Director, Division of the Executive Secretariat.

[FR Doc. 2018-27348 Filed 12-17-18; 8:45 am]

BILLING CODE 4165-15-P